FEDERAL EMERGENCY MANAGEMENT AGENCY

[FEMA-1356-DR]

Texas; Amendment No. 2 to Notice of a Major Disaster Declaration

AGENCY: Federal Emergency Management Agency (FEMA).

ACTION: Notice.

SUMMARY: This notice amends the notice of a major disaster for the State of Texas (FEMA-1356-DR), dated January 8, 2001, and related determinations.

EFFECTIVE DATE: January 18, 2001.

FOR FURTHER INFORMATION CONTACT: Madge Dale, Response and Recovery Directorate, Federal Emergency Management Agency, Washington, DC 20472, (202) 646-3772.

SUPPLEMENTARY INFORMATION: Notice is hereby given that, in a letter dated January 18, 2001, the President amended the cost-sharing arrangements concerning Federal funds provided under the authority of the Robert T. Stafford Disaster Relief and Emergency Assistance Act (42 U.S.C. 51521 et seq.), in a letter to James L. Witt, Director of the Federal Emergency Management Agency, as follows:

I have determined that the damage in certain areas of the State of Texas resulting from a severe winter ice storm beginning on December 12, 2000, and continuing through January 15, 2001, is of sufficient severity and magnitude that the provision of additional Federal assistance to ensure public health and safety is warranted under the Robert T. Stafford Disaster Relief and Emergency Assistance Act, 42 U.S.C. 5121, et seq., as amended by the Disaster Mitigation Act of 2000, Pub. L. No. 106-390, 114 Stat. 1552 (2000)(Stafford Act).

Therefore, I amend my declaration of January 8, 2001, to provide that the Federal Emergency Management Agency (FEMA) may reimburse 90 percent of the costs of debris removal from January 8, 2001, through and including March 9, 2001. This adjustment of the cost share may be provided to all counties under the major disaster declaration. You may extend this assistance for an additional period of time, if requested and warranted.

Please notify the Governor of Texas and the Federal Coordinating Officer of this amendment to my major disaster declaration.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
James L. Witt,
Director.

[FR Doc. 01-2446 Filed 1-26-01; 8:45 am]

BILLING CODE 6718-02-P